DEPARTMENT OF COMMERCE

National Oceanic and Atmospheric Administration

50 CFR Part 660

[Docket No. 150316270-5270-01]

RIN 0648-XE111

Fisheries Off West Coast States; Modifications of the West Coast Commercial, Recreational, and Treaty Indian Salmon Fisheries; Inseason Actions #16 Through #21

AGENCY: National Marine Fisheries Service (NMFS), National Oceanic and Atmospheric Administration (NOAA), Commerce.

ACTION: Modification of fishing seasons; request for comments.

SUMMARY: NMFS announces six inseason actions in the ocean salmon fisheries. These inseason actions modified the commercial, recreational, and treaty Indian salmon fisheries in the area from the U.S./Canada border to the U.S./Mexico border.

DATES: The effective dates for the inseason actions are set out in this document under the heading Inseason Actions. Comments will be accepted through September 9, 2015.

ADDRESSES: You may submit comments, identified by NOAA-NMFS-2015-0001, by any one of the following methods:

• Electronic Submissions: Submit all electronic public comments via the Federal eRulemaking Portal. Go to www.regulations.gov/#!docketDetail;D=NOAA-NMFS-2015-0001, click the “Comment Now!” icon, complete the required fields, and enter or attach your comments.

• Mail: William W. Stelle, Jr., Regional Administrator, West Coast Region, NMFS, 7600 Sand Point Way NE., Seattle, WA 98115-6349.

Instructions: Comments sent by any other method, to any other address or individual, or received after the end of the comment period, may not be considered by NMFS. All comments received are a part of the public record and will generally be posted for public viewing on www.regulations.gov without change. All personal identifying information (e.g., name, address, etc.), confidential business information, or otherwise sensitive information submitted voluntarily by the sender will be publicly accessible. NMFS will accept anonymous comments (enter “N/A” in the required fields if you wish to remain anonymous).

FOR FURTHER INFORMATION CONTACT: Peggy Mundy at 206-526-4323.

SUPPLEMENTARY INFORMATION:

Background

In the 2015 annual management measures for ocean salmon fisheries (80 FR 25611, May 5, 2015), NMFS announced the commercial and recreational fisheries in the area from the U.S./Canada border to the U.S./Mexico border, beginning May 1, 2015, and 2016 salmon fisheries opening earlier than May 1, 2016. NMFS is authorized to implement inseason management actions to modify fishing seasons and quotas as necessary to provide fishing opportunity while meeting management objectives for the affected species (50 CFR 660.409). Inseason actions in the salmon fishery may be taken directly by NMFS (50 CFR 660.409(a)—Fixed inseason management provisions) or upon consultation with the Pacific Fishery Management Council (Council) and the appropriate State Directors (50 CFR 660.409(b)—Flexible inseason management provisions). The state management agencies that participated in the consultations described in this document were: California Department of Fish and Wildlife (CDFW), Oregon Department of Fish and Wildlife (ODFW) and Washington Department of Fish and Wildlife (WDFW).

Management of the salmon fisheries is generally divided into two geographic areas: North of Cape Falcon (U.S./Canada border to Cape Falcon, OR) and south of Cape Falcon (Cape Falcon, OR, to the U.S./Mexico border). The inseason actions reported in this document affect fisheries north and south of Cape Falcon. Within the south of Cape Falcon area, the Klamath Management Zone (KMZ) extends from Humbug Mountain, OR, to Humboldt South Jetty, CA, and is divided at the Oregon/California border into the Oregon KMZ to the north and California KMZ to the south. All times mentioned refer to Pacific daylight time.

Inseason Actions

Inseason Action #16

Description of action: Inseason action #16 adjusted the daily bag limit in the recreational salmon fishery from the U.S./Canada border to Queets River, WA (Neah Bay and La Push Subareas), to limit retention of Chinook salmon, which had been two per day, to one per day. The new bag limit under inseason action #16 was: Two salmon per day, only one of which can be a Chinook salmon, plus two additional pink salmon.

Effective dates: Inseason action #16 took effect on July 24, 2015, and remained in effect until the part of the action that affected the Neah Bay Subarea was superseded by inseason action #18, which took effect on August 2, 2015.

Reason and authorization for the action: The Regional Administrator (RA) considered fishery effort and Chinook salmon landings to date, and determined that it was necessary to reduce the daily bag limit for Chinook salmon to avoid exceeding the harvest guidelines set preseason for the Neah Bay and La Push Subareas. Inseason action to modify recreational bag limits is authorized by 50 CFR 660.409(b)(1)(iii).

Consultation date and participants: Consultation on inseason action #16 occurred on July 21, 2015. Participants in this consultation were staff from NMFS, Council, WDFW, and ODFW.

Inseason Action #17

Description of action: Inseason action #17 adjusted the summer quota (July through September) for the treaty Indian salmon fishery north of Cape Falcon, that was set preseason at 30,000 Chinook salmon, to 29,084 Chinook salmon.

Effective dates: Inseason action #17 took effect on July 1, 2015, and remains in effect until the end of the 2015 treaty Indian salmon season.

Reason and authorization for the action: The tribal fisheries reported an overage of 916 Chinook salmon in the May/June fishery. The Council's Salmon Technical Team (STT) determined that no impact-neutral adjustment was required, and that the spring overage could be deducted from the summer quota on a 1 to 1 basis. Modification of quotas and/or fishing seasons is authorized by 50 CFR 660.409(b)(1)(i).

Consultation date and participants: The treaty tribes notified staff from NMFS, Council, and WDFW of the need for modification of the summer quota on July 22, 2015, and consulted with the STT on the need for any adjustments needed to make the modification impact-neutral. The RA concurred with the quota modification.

Inseason Action #18

Description of action: Inseason action #18 adjusted the daily bag limit in the recreational salmon fishery from the U.S./Canada border to Cape Alava (Neah Bay Subarea) to prohibit retention of Chinook salmon. This action superseded that part of inseason action #16 that applied to the Neah Bay Subarea.

Effective dates: Inseason action #18 took effect August 2, 2015, and remains in effect until the end of the salmon fishing season or until modified by further inseason action.

Reason and authorization for the action: The RA considered Chinook salmon landings and effort in the recreational salmon fishery north of Cape Falcon and determined that the Neah Bay Subarea was likely to exceed the subarea guideline if retention of Chinook salmon continued. Prohibiting retention of Chinook salmon in this subarea allowed fishers access to remaining coho quota without exceeding the Chinook salmon guideline. Inseason action to modify recreational bag limits is authorized by 50 CFR 660.409(b)(1)(iii).

Consultation date and participants: Consultation on inseason action #18 occurred on July 28, 2015. Participants in this consultation were staff from NMFS, Council, WDFW, and ODFW.

Inseason Action #19

Description of action: Inseason action #19 adjusted the summer quota (June through September) for the recreational salmon fishery north of Cape Falcon. Unutilized quota from the spring season was rolled over on an impact-neutral basis to the summer season. The adjusted summer quota is 56,700 Chinook salmon.

Effective dates: Inseason action #19 took effect on July 28, 2015, and remains in effect until the end of the 2015 recreational salmon season.

Reason and authorization for the action: The spring recreational salmon fishing season north of Cape Falcon closed on June 12, 2015. Once landings were finalized, 8,798 Chinook salmon remained unutilized from the spring mark-selective Chinook salmon quota of 10,000. The STT calculated the quota rollover to the non-mark-selective Chinook salmon summer quota on an impact-neutral basis for Puget Sound Puyallup and Nisqually Chinook salmon stocks. This resulted in a net, impact-neutral rollover of 2,700 non-mark-selective Chinook salmon quota to the summer fishery. Modification of quotas and/or fishing seasons is authorized by 50 CFR 660.409(b)(1)(i).

Consultation date and participants: Consultation on inseason action #19 occurred on July 28, 2015. Participants in this consultation were staff from NMFS, Council, WDFW, and ODFW.

Inseason Action #20

Description of action: Inseason action #20 changed the landing and possession limit for retention of Pacific halibut caught incidental to the commercial salmon fishery from 12 halibut per trip to 2 halibut per trip. This action applies to the commercial salmon fishery from the U.S./Canada border to the U.S./Mexico border.

Effective dates: Inseason action #20 took effect on August 7, 2015, and remains in effect until the end of the commercial salmon fishing season or until modified by further inseason action.

Reason and authorization for the action: The RA considered landings of halibut caught incidental to the commercial salmon fishery and determined that the allocation of halibut set by the International Pacific Halibut Commission was close to attainment. Inseason action #20 was taken to allow access to the remaining halibut allocation without exceeding the allocation. Inseason modification of limited retention regulations is authorized by 50 CFR 660.409(b)(1)(ii).

Consultation date and participants: Consultation on inseason action #20 occurred on August 5, 2015. Participants in this consultation were staff from NMFS, Council, CDFW, WDFW, and ODFW.

Inseason Action #21

Description of action: Inseason action #21 adjusted the August quota for the commercial salmon fishery in the Oregon KMZ. Unutilized quota from July was rolled over on an impact-neutral basis to August. The adjusted August quota is 772 Chinook salmon.

Effective dates: Inseason action #21 took effect August 1, 2015, and remains in effect to the end of the season.

Reason and authorization for the action: Under inseason action #14 (80 FR 43336, July 22, 2015), the commercial salmon fishery in the Oregon KMZ had an adjusted July quota of 1,184 Chinook salmon. The State of Oregon reported that 813 Chinook salmon were landed in the area in July, leaving quota of 371 Chinook salmon unutilized. To address temporal differences in impacts to Klamath River fall and California coastal Chinook salmon stocks, the STT calculated the impact-neutral rollover of 371 Chinook salmon from July to August. As a result, 272 Chinook salmon were added to the August quota of 500 Chinook salmon, for an adjusted quota of 772 Chinook salmon. After consideration of Chinook salmon landings to date and the STT's calculations, the RA determined that it was appropriate to adjust the August quota for the commercial salmon fishery in the Oregon KMZ. This action was taken to allow access to available Chinook salmon quota, without exceeding conservation impacts to Klamath River fall and California coastal Chinook salmon stocks. Inseason action to modify quotas and/or fishing seasons is authorized by 50 CFR 660.409(b)(1)(i).

Consultation date and participants: Consultation on inseason action #21 occurred on August 5, 2015. Participants in this consultation were staff from NMFS, Council, CDFW, WDFW, and ODFW.

All other restrictions and regulations remain in effect as announced for the 2015 ocean salmon fisheries and 2016 salmon fisheries opening prior to May 1, 2016 (80 FR 25611, May 5, 2015).

The RA determined that the best available information indicated that Chinook salmon and halibut catch to date and fishery effort supported the above inseason actions recommended by the states of Washington and Oregon, and the treaty Indian tribes. The states manage the fisheries in state waters adjacent to the areas of the U.S. exclusive economic zone in accordance with these Federal actions; the tribes manage fisheries in areas described in the annual management measures (80 FR 25611, May 5, 2015). As provided by the inseason notice procedures of 50 CFR 660.411, actual notice of the described regulatory actions was given, prior to the time the action was effective, by telephone hotline numbers 206-526-6667 and 800-662-9825, and by U.S. Coast Guard Notice to Mariners broadcasts on Channel 16 VHF-FM and 2182 kHz.

Classification

The Assistant Administrator for Fisheries, NOAA (AA), finds that good cause exists for this notification to be issued without affording prior notice and opportunity for public comment under 5 U.S.C. 553(b)(B) because such notification would be impracticable. As previously noted, actual notice of the regulatory actions was provided to fishers through telephone hotline and radio notification. These actions comply with the requirements of the annual management measures for ocean salmon fisheries (80 FR 25611, May 5, 2015), the West Coast Salmon Fishery Management Plan (Salmon FMP), and regulations implementing the Salmon FMP, 50 CFR 660.409 and 660.411. Prior notice and opportunity for public comment was impracticable because NMFS and the state agencies had insufficient time to provide for prior notice and the opportunity for public comment between the time Chinook salmon catch and effort assessments and projections were developed and fisheries impacts were calculated, and the time the fishery modifications had to be implemented in order to ensure that fisheries are managed based on the best available scientific information, ensuring that conservation objectives and ESA consultation standards are not exceeded. The AA also finds good cause to waive the 30-day delay in effectiveness required under 5 U.S.C. 553(d)(3), as a delay in effectiveness of these actions would allow fishing at levels inconsistent with the goals of the Salmon FMP and the current management measures.

These actions are authorized by 50 CFR 660.409 and 660.411 and are exempt from review under Executive Order 12866.

Authority: 16 U.S.C. 1801 et seq.

Dated: August 20, 2015.
Alan D. Risenhoover,
Director, Office of Sustainable Fisheries, National Marine Fisheries Service.

[FR Doc. 2015-20996 Filed 8-24-15; 8:45 am]

BILLING CODE 3510-22-P